U.S. ARCTIC RESEARCH COMMISSION

Meetings

July 31, 2000.

Notice is hereby given that the U.S. Arctic Research Commission will hold its 57th Meeting in Seattle WA on August 24, and 25, 2000.

The Meeting will be held at the Applied Physics Laboratory of the University of Washington, 1013 NE. 40th Street, Seattle, WA 98105.

Topics for the meeting include Federal and State Agency reports, Congressional liaison reports, research reports on climate change in the Arctic and a visit is planned to the USCGC Healy.

Any person planning to attend the meeting who requires special accessibility features and/or auxiliary aids, such as sign language interpreters must inform the Commission in advance of those needs.

Contact Person for More Information: Dr. Garrett W. Brass, Executive Director, Arctic Research Commission, 703-525-0111, e-mail <g.brass@arctic.gov> or TDD 703-306-0090.

Garrett W. Brass,
Executive Director.

[FR Doc. 00-20408 Filed 8-10-00; 8:45 am]

BILLING CODE 7555-01-M